DEPARTMENT OF TRANSPORTATION

Surface Transportation Board

[STB Finance Docket No. 35190]

Union Pacific Railroad Company—Temporary Trackage Rights Exemption—Orange County Transportation Authority

Orange County Transportation Authority (OCTA), pursuant to a written trackage rights agreement entered into between OCTA and Union Pacific Railroad Company (UP), has agreed to grant to UP temporary overhead trackage rights between milepost 165.25 at Fullerton Jct., CA, and milepost 171.00 at CP College, CA, a total distance of approximately 5.75 miles.

The transaction is scheduled to be consummated on January 5, 2009.¹ The temporary trackage rights will expire on or about January 26, 2009. The purpose of the temporary trackage rights is to facilitate maintenance work on UP lines.

¹ The exemption is scheduled to become effective on November 22, 2008 (30 days after the exemption was filed).

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Any stay petition must be filed on or before November 14, 2008 (at least 7 days before the exemption becomes effective).

Pursuant to the Consolidated Appropriations Act, 2008, Public Law 110-161, section 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35190, must be filed with the Surface Transportation Board, 395 E Street, SW., Washington, DC 20423-0001. In addition, a copy of each pleading must be served on Gabriel S. Meyer, Union Pacific Railroad Company, 1400 Douglas Street, STOP 1580, Omaha, NE 68179.

Board decisions and notices are available on our Web site at http://www.stb.dot.gov.

Decided: October 31, 2008.
By the Board, David M. Konschnik, Director, Office of Proceedings.
Jeff Herzig,
Clearance Clerk.

[FR Doc. E8-26449 Filed 11-6-08; 8:45 am]

BILLING CODE 4915-01-P